DEPARTMENT OF DEFENSE

Office of the Secretary

[Transmittal No. 16-26]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Heather N. Harwell, DSCA/LMO, (703) 697-9217.

The following is a copy of a letter to the Speaker of the House of Representatives,

Transmittal 16-26 with attached Policy Justification and Sensitivity of Technology.

Dated: March 28, 2016.
Aaron Siegel,
Alternate OSD Federal Register Liaison Officer, Department of Defense.

BILLING CODE 5001-06-C

Transmittal No. 16-26

Notice of Proposed Issuance of Letter of Offer Pursuant to Section 36(b)(1) of the Arms Export Control Act, as amended

(i) Prospective Purchaser: United Kingdom

(ii) Total Estimated Value:

Major Defense Equipment * | $1.8 billion
Other | $1.4 billion
Total | $3.2 billion

(iii) Description and Quantity or Quantities of Articles or Services under Consideration for Purchase:

Major Defense Equipment (MDE):

Nine (9) P-8A Patrol Aircraft, which include:

Tactical Open Mission Software (TOMS)

Electro-Optical (EO) and Infrared (IR) MX-20HD

AN/AAQ-2(V)1 Acoustic System

AN/APY-10 Radar

ALQ-240 Electronic Support Measures (ESM)

Twelve (12) Multifunctional Informational Distribution System (MIDS) Joint Tactical Radio Systems (JTRS)

Twelve (12) Guardian Laser Transmitter Assemblies (GLTA) for AN/AAQ-24(V)N

Twelve (12) System Processors for AN/AAQ-24(V)N

Twelve (12) Missile Warning Sensors for AN/AAR-54 (for AN/AAQ-24(V)N)

Nine (9) LN-251 with Embedded Global Positioning Systems/Inertial Navigation System (EGI)

Non-Major Defense Equipment (Non-MDE):

Associated training, training devices, and support

(iv) Military Department: U.S. Navy (SAN, Basic Aircraft Procurement Case; LVK, Basic Training Devices Case; TGO, Basic Training Case)

(v) Prior Related Cases, if any: UK-P-FBF, total case value $5.6M, implemented January 27, 2015.

(vi) Sales Commission, Fee. etc., Paid, Offered, or Agreed to be Paid: None

(vii) Sensitivity of Technology Contained in the Defense Article or Defense Services Proposed to be Sold: See attached Annex

(viii) Date Report Delivered to Congress: 24 March 2016

*as defined in Section 47(6) of the Arms Export Control Act.

POLICY JUSTIFICATION

United Kingdom—P-8A Aircraft and Associated Support

The Government of the United Kingdom (UK) has requested notification for the possible procurement of up to nine (9) P-8A Patrol Aircraft, associated major defense equipment, associated training, and support. The estimated cost is $3.2 billion.

The UK is a close ally and an important partner on critical foreign policy and defense issues. The proposed sale will enhance U.S. foreign policy and national security objectives by enhancing the UK's capabilities to provide national defense and contribute to NATO and coalition operations.

The proposed sale will allow the UK to reestablish its Maritime Surveillance Aircraft (MSA) capability that it divested when it cancelled the Nimrod MRA4 Maritime Patrol Aircraft (MPA) program. The United Kingdom has retained core skills in maritime patrol and reconnaissance following the retirement of the Nimrod aircraft through Personnel Exchange Programs (PEPs). The MSA has remained the United Kingdom's highest priority unfunded requirement. The P-8A aircraft would fulfill this requirement. The UK will have no difficulty absorbing these aircraft into its armed forces.

The proposed sale of this equipment and support will not alter the basic military balance in the region.

The prime contractor involved in this sale is The Boeing Company, Seattle, WA. Implementation of the proposed sale will require approximately sixty-four (64) personnel hired by Boeing to support the program in the United Kingdom. Additional contractors include:

ViaSat, Carlsbad, CA

GC Micro, Petaluma, CA

Rockwell Collins, Cedar Rapids, IA

Spirit Aero, Wichita, KS

Raytheon, Waltham, MA

Telephonics, Farmingdale, NY

Pole Zero, Cincinnati, OH

Northrop Grumman Corp, Falls Church, VA

Exelis, McLean, VA

Terma, Arlington, VA

Symmetrics, Canada

Arnprior Aerospace, Canada

General Electric, UK

Martin Baker, UK

There are no known offset agreements proposed in connection with this potential sale.

There will be no adverse impact on U.S. defense readiness as a result of this proposed sale.

Transmittal No. 16-26

Notice of Proposed Issuance of Letter of Offer Pursuant to Section 36(b)(1) of the Arms Export Control Act, as amended

Annex Item No. vii

(vii) Sensitivity of Technology

1. The P-8A aircraft is a militarized version of the Boeing 737-800 Next Generation (NG) commercial aircraft. The P-8A is replacing the P-3C as the Navy's long-range anti-submarine warfare (ASW), anti-surface warfare (ASuW), intelligence, surveillance, and reconnaissance (ISR) aircraft capable of broad-area, maritime and littoral operations.

2. P-8A mission systems include:

(a) Tactical Open Mission Software (TOMS). TOMS functions include environment planning tactical aids, weapons planning aids, and data correlation. TOMS includes an algorithm for track fusion which automatically correlates tracks produced by on-board and off-board sensors.

(b) Electro-Optical (EO) and Infrared (IR) MX-20HD. The EO/IR system processes visible EO and IR spectrum to detect and image objects.

(c) AN/AAQ-2(V)1 Acoustic System. The Acoustic sensor system is integrated within the mission system as the primary sensor for the aircraft ASW missions. The system has multi-static active coherent (MAC) 64 sonobuoy processing capability and acoustic sensor prediction tools.

(d) AN/APY-10 Radar. The aircraft radar is a direct derivative of the legacy AN/APS-137(V) installed in the P-3C. The radar capabilities include Global Positioning System (GPS), selective availability anti-spoofing, Synthetic Aperture Radar (SAR), and Inverse Synthetic Aperture Radar (ISAR) imagery resolutions, and periscope detection mode.

(e) ALQ-240 Electronic Support Measures (ESM). This system provides real time capability for the automatic detection, location, measurement, and analysis of Radio-Frequency (RF) signals and modes. Real time results are compared with a library of known emitters to perform emitter classification and specific emitter identification (SEI).

(f) Electronic Warfare Self Protection (EWSP). The aircraft EWSP consists of the ALQ-213 Electronic Warfare Management System (EWMS), ALE-47 Countermeasures Dispensing System (CMDS), and the AN/AAQ-24 Directional Infrared Countermeasures (DIRCM)/AAR-54 Missile Warning Sensors (MWS). The EWSP includes threat information.

3. If a technologically advanced adversary was to obtain access to the P-8A specific hardware and software elements, systems could be reverse engineered to discover U.S. Navy capabilities and tactics. The consequences of the loss of this technology, to a technologically advanced or competent adversary, could result in the development of countermeasures or equivalent systems, which could reduce system effectiveness or be used in the development of a system with similar advance capabilities.

4. A determination has been made that the United Kingdom can provide substantially the same degree of protection for the technology being released as the U.S. Government. Support of the P-8A Patrol Aircraft to the Government of the United Kingdom is necessary in the furtherance of the U.S. foreign policy and national security objectives.

5. All defense articles and services listed in this transmittal have been authorized for release and export to the United Kingdom.

[FR Doc. 2016-07267 Filed 3-30-16; 8:45 am]

BILLING CODE 5001-06-P